DEPARTMENT OF HEALTH AND HUMAN SERVICES

Food and Drug Administration

21 CFR Part 111

[Docket No. 96N-0417]

Dietary Supplements; Current Good Manufacturing Practice Regulations; Public Meetings; Correction

AGENCY: Food and Drug Administration, HHS.

ACTION: Notification of public meetings; correction.

SUMMARY: The Food and Drug Administration (FDA) is correcting a notice that appeared in the Federal Register of March 28, 2003 (68 FR 15117). The notice announced two public meetings to discuss the proposed rule entitled “Current Good Manufacturing Practice in Manufacturing, Packing, or Holding Dietary Ingredients and Dietary Supplements.” The document was published with an inadvertent error. This document corrects that error.

FOR FURTHER INFORMATION CONTACT:

For the east coast meeting: Kenneth Taylor, Center for Food Safety and Applied Nutrition (HFS-810), Food and Drug Administration, 5100 Paint Branch Pkwy., College Park, MD 20740, 301-436-1439, FAX: 301-436-2639, or e-mail: Kenneth.Taylor@cfsan.fda.gov.

For the west coast meeting: Janet McDonald, FDA/San Francisco District, 1431 Harbor Bay Pkwy., Alameda, CA 94502-7070, 510-337-6845, FAX: 510-337-6708, or e-mail: Janet.McDonald@fda.gov.

SUPPLEMENTARY INFORMATION: In the FR Doc. 03-7377, appearing on page 15117 in the Federal Register of Friday, March 28, 2003, the following correction is made:

1. On page 15117, in the first column, under “DATES,” the first sentence is corrected to read “The public meetings will be held on the east coast on Tuesday, April 29, 2003, from 9 a.m. to 12 noon and 1:30 p.m. to 5 p.m. and on the west coast on Tuesday, May 6, 2003, from 9 a.m. to 12 noon and 1:30 p.m. to 5 p.m.”

Dated: April 8, 2003.
Jeffrey Shuren,
Assistant Commissioner for Policy.

[FR Doc. 03-9066 Filed 4-11-03; 8:45 am]

BILLING CODE 4160-01-S